DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On October 4, 2018, OFAC determined that the property and interests in property subject to U.S. jurisdiction of the following persons are blocked pursuant to the relevant sanctions authority listed below.

Individuals

1. CULHA, Erhan; DOB 17 Oct 1954; POB Istanbul, Turkey; nationality Turkey; Gender Male; Secondary sanctions risk: North Korea Sanctions Regulations, sections 510.201 and 510.210; Passport U09787534 (Turkey) issued 12 Sep 2014 expires 12 Sep 2024; Personal ID Card 10589535602; General Manager (individual) [DPRK] (Linked To: SIA FALCON INTERNATIONAL GROUP).

Designated pursuant to section 1(a)(ii)(F) of Executive Order 13551 of August 30, 2010, “Blocking Property of Certain Persons With Respect to North Korea,” (E.O. 13551) for having acted or purported to act for or on behalf of, directly or indirectly, SIA Falcon International Group, a person whose property and interests in property are blocked pursuant to E.O. 13551.

2. SAHIN, Huseyin, Adnan Saygun, Cad Canan SK N1 Mercan St K 4 D 9 ULUS, Istanbul, Turkey; DOB 01 Apr 1957; POB Gumusova, Turkey; nationality Turkey; citizen Turkey; Gender Male; Secondary sanctions risk: North Korea Sanctions Regulations, sections 510.201 and 510.210; Passport U00618757 (Turkey) issued 12 Aug 2010 expires 11 Aug 2020; National ID No. 31202133364; Chief Executive Officer (individual) [DPRK] (Linked To: SIA FALCON INTERNATIONAL GROUP).

Designated pursuant to section 1(a)(ii)(F) of E.O. 13551 for having acted or purported to act for or on behalf of, directly or indirectly, SIA Falcon International Group, a person whose property and interests in property are blocked pursuant to E.O. 13551.

3. RI, Song Un, Ulaanbaatar, Mongolia; DOB 16 Dec 1955; POB N. Hwanghae, North Korea; nationality Korea, North; Gender Male; Secondary sanctions risk: North Korea Sanctions Regulations, sections 510.201 and 510.210; Passport 836110063 (Korea, North) issued 04 Feb 2016 expires 04 Feb 2021; Economic and Commercial Counsellor at DPRK Embassy in Mongolia (individual) [DPRK2].

Designated pursuant to section 1(a)(ii) of Executive Order 13687 of January 2, 2015, “Imposing Additional Sanctions With Respect to North Korea,” (E.O. 13687) for being an official of the Government of North Korea.

Entity

1. SIA INTERNATIONAL GROUP (f.k.a. ATACAR OTOMOTIV DIS TICARET VE SAVUNMA SANAYI LIMITED SIRKETI; a.k.a. FALCON INTERNATIONAL SIA; f.k.a. MURAT INSAAT DIS TICARET VE SAVUNMA SANAYI LIMITED SIRKETI; a.k.a. SABIEDRIBA AR IEROBEZOTU ATBILDIBU ‘FALCON INTERNATIONAL'; a.k.a. SIA FALCON INTERNATIONAL TARIM VE HAYVANCILIK LIMITED SIKRETI), Fulya Mah. Buyukdere Cad. Akabe Ticaret Merkezi 78-80A Kat: 1 D: 1 Mecidiyekoy, Sisli, Istanbul, Turkey; Akabe Is Hani, 78-80 A/1, Fulya Mahallesi Buyukdere Caddesi Sisli, Istanbul, Turkey; Varpas Baldones pagasts Baldones novads LV 2125, Latvia; Istanbul, Turkey; Riga, Latvia; Secondary sanctions risk: North Korea Sanctions Regulations, sections 510.201 and 510.210; Tax ID No. 6240194059 (Turkey); Registration Number 464933 (Turkey); alt. Registration Number 45403041088 (Latvia) [DPRK].

Designated pursuant to Section 1(a)(ii)(G) of E.O. 13551 for having attempted to, directly or indirectly, import, export, or reexport to, into, or from North Korea any arms or related materiel.

Also designated pursuant to Section 1(a)(ii)(G) of E.O. 13551 for having attempted to, directly or indirectly, import, export, or reexport luxury goods to or into North Korea.

Dated: October 4, 2018.
Andrea M. Gacki,
Director, Office of Foreign Assets Control.

[FR Doc. 2018-21956 Filed 10-9-18; 8:45 am]

BILLING CODE 4810-AL-P